DEPARTMENT OF DEFENSE

Department of the Army; Corps of Engineers

Intent To Prepare a Draft Environmental Impact Statement for the Mississippi River-Gulf Outlet Ecosystem Restoration Feasibility Study

AGENCY: Department of the Army, U.S. Army Corps of Engineers, DoD.

ACTION: Notice of intent.

SUMMARY: The Corps of Engineers (Corps) intends to prepare an Environmental Impact Statement (EIS) for the Mississippi River-Gulf Outlet (MRGO) Ecosystem Restoration Feasibility Study within the Middle and Lower Pontchartrain Basin and areas of southern Mississippi. The Corps will evaluate a full range of comprehensive restoration measures to restore important estuarine components and ecosystem processes within the areas affected by the MRGO navigation channel and assess the impacts associated with implementing the plan. The MRGO was authorized by Congress in 1956 as a Federal navigation channel to provide a direct route between the Port of New Orleans and the Gulf of Mexico. Construction began in 1958 and was completed in 1968 to authorized dimensions (36-foot depth by 500-foot width: 38-foot depth by 600-foot bottom width in Bar Channel). Construction of the MRGO channel created a direct deep water link between the Inner Harbor Navigation Canal and the Gulf of Mexico allowing higher salinity waters to enter Lake Borgne and Lake Pontchartrain estuaries. Construction resulted in direct wetland losses, damages to the Bayou LaLoutre Ridge and alteration of the adjacent landscape and hydrology by placement of dredge material adjacent to the channel in upland confined disposal facilities. Since Hurricane Katrina made landfall in 2005, the MRGO navigation channel has not been maintained. A June closure plan and accompanying Legislative EIS and Record of Decision titled “Integrated Final Report to Congress and Legislative Environmental Impact Statement for the Mississippi River-Gulf Outlet Deep-Draft De-Authorization Study” was signed on June 5, 2008, officially deauthorizing the MRGO navigation channel (from the Gulf of Mexico to Mile 60 at the southern bank of the Gulf Intracoastal Waterway) and authorizing construction of a closure structure at the south ridge of Bayou LaLoutre in St. Bernard Parish, Louisiana and development of plan to restore the areas affected by the MRGO Navigation channel.

DATES: See SUPPLEMENTARY INFORMATION section for scoping meeting dates.

FOR FURTHER INFORMATION CONTACT: Questions concerning the Draft Environmental Impact Statement (DEIS) should be addressed to Ms. Sandra Stiles at U.S. Army Corps of Engineers, CEMVNPM-RS, P.O. Box 60267, New Orleans, LA 70160-0267, phone (504) 862-1583, fax number (504) 862-2088 or by e-mail at sandra.e.stiles@usace.army.mil.

SUPPLEMENTARY INFORMATION:

1. Authority: Water Resources Development Act of 2007 Sections 7012 and 7013 authorized the Corps to develop a comprehensive closure and restoration plan, at full Federal expense, to de-authorize deep-draft navigation on the MRGO, Louisiana, extending from the Gulf of Mexico to the Gulf Intracoastal Waterway (GIWW) and develop a restoration plan.

2. Proposed Action. The Corps will develop a comprehensive ecosystem restoration plan to restore the areas affected by the MRGO navigation channel to include: (1) Physically modifying the MRGO channel and restoring areas affected by the channel; (2) restoring natural ecosystem features to reduce damage from storm surge; (3) measures preventing saltwater intrusion into the waterway; (4) measures protecting, restoring or increasing wetlands to prevent saltwater intrusion or storm surge; (5) measures reducing risk of storm damage to communities by preventing or reducing wetland losses or restoring wetlands in areas affected by navigation, oil and gas and other manmade channels; (6) diversions to restore the Lake Borgne Ecosystem.

3. Alternatives. Restoration measures being considered include physical modification and restoration of the MRGO navigation channel, freshwater, sediment and nutrient introduction; shoreline protection and bank stabilization; restoration and protection of natural ridges; barrier island protection and restoration; wetland protection, creation and restoration; water control measures (gates, weirs, sills, plugs, etc.); measures to increase native vegetation; restoration of natural features to reduce storm surge. Once restoration measures are identified, alternative plans will be developed through various combinations of restoration measures that best meet the study goals and objectives and are determined to be cost-effective, environmentally acceptable and technically feasible. Some measures may also be recommended for implementation under other authorities.

4. Public Involvement. Stakeholder and public involvement for this proposed action is integral to the project. Interested parties, concerned citizens, and other State and Federal agencies, private and not-for-profit or non-governmental organizations are strongly encouraged to participate in the development of the proposed action. Stakeholder and public meetings would be held throughout project development. Meeting announcements would be made as information becomes available.

5. Public Scoping Meeting. Scoping is the process utilized for determining the range of alternatives and significant issues to be addressed in the EIS. For this study, a letter will be mailed to all parties believed to have an interest in the analysis. The letter will notify interested parties of public scoping meetings that will be held in the local area and request their input on alternatives and issues to be evaluated. Notices will also be mailed to local news media. All interested parties are invited to comment at this time, and anyone interested in this study should request inclusion in the study mailing list. A public scoping meeting will be held November 3, 2008 from 6-9 p.m. in Chalmette, Louisiana and November 6, 2008 from 6-9 p.m. in Waveland, Mississippi. The exact location and address for the meetings will be announced through local media channels. Additional meetings could be held, depending upon public interest and if it is determined that further public coordination is warranted.

6. Significant Issues. The tentative list of important resources and issues that will be evaluated in the EIS include but are not limited to tidal wetlands (marshes and swamps), barrier islands, aquatic resources, commercial and recreational fisheries, wildlife resources, essential fish habitat, water quality, air quality, threatened and endangered species and critical habitat, recreation resources, and cultural resources. Socioeconomic items to be evaluated in the EIS include navigation; flood protection; business and industrial activity; oil and gas pipelines; employment; land use; property values; public/community facilities and services; tax revenues; population, community and regional growth; transportation; housing; community cohesion; environmental justice, aesthetics and noise.

7. Environmental Consultation and Review. The U.S. Fish and Wildlife Service (USFWS) will assist in documenting existing conditions and assessing effects of project alternatives through the Fish and Wildlife Coordination Act consultation procedures. The USFWS will provide a Fish and Wildlife Coordination Act report. Consultation will be accomplished with the USFWS and the National Marine Fisheries Service (NMFS) concerning threatened and endangered species and their critical habitat. The NMFS will be consulted regarding the effects of this proposed action on Essential Fish Habitat. The draft EIS or a notice of its availability will be distributed to all interested agencies, organizations, and individuals.

8. Estimated Date of Availability. The earliest that the DEIS is expected to be available is March of 2010.

Dated: September 23, 2008.
Alvin B. Lee,
Colonel, U.S. Army, District Engineer.

[FR Doc. E8-23219 Filed 10-1-08; 8:45 am]

BILLING CODE 3710-84-P